DEPARTMENT OF THE INTERIOR

Natural Resource Damage Assessment and Restoration Advisory Committee

AGENCY: Office of the Secretary—Natural Resource Damage Assessment and Restoration Program Office, Interior.

ACTION: Notice of establishment.

SUMMARY: This notice is published in accordance with Section 9(a) of the Federal Advisory Committee Act of 1972 (Public Law 92-463). Following consultation with the General Services Administration, notice is hereby given that the Secretary of the Interior has established the Natural Resource Damage Assessment and Restoration Advisory Committee. The Committee will provide advice and recommendations on issues related to the Department of the Interior's authorities, responsibilities and implementation of the natural resource damage provisions of the Comprehensive Environmental Response, Compensation, and Liability Act (CERCLA—42 U.S.C. §§ 9601, et seq.), the Oil Pollution Act (OPA—33 U.S.C. 2701, et seq.), and the Clean Water Act (CWA—33 U.S.C. 1251, et seq.).

FOR FURTHER INFORMATION CONTACT: Frank DeLuise, Office of the Secretary, Natural Resource Damage Assessment and Restoration Program Manager, 1849 C Street, NW., Washington, DC, 20240, 202-208-4143.

Certification: I hereby certify that the Natural Resource Damage Assessment and Restoration Advisory Committee is in the public interest in connection with the performance of duties imposed on the Department of the Interior by the natural resource damage provisions of the Comprehensive Environmental Response, Compensation, and Liability Act (CERCLA—42 U.S.C. 9601, et seq.), the Oil Pollution Act (OPA—33 U.S.C. 2701, et seq.), and the Clean Water Act (CWA—33 U.S.C. 1251, et seq.) .

Dated: April 12, 2005.
Gale A. Norton,
Secretary of the Interior.

[FR Doc. 05-7925 Filed 4-19-05; 8:45 am]

BILLING CODE 4310-RK-P